DEPARTMENT OF THE INTERIOR

Fish and Wildlife Service

Notice of Availability, Draft Natural Resource Restoration Plan

AGENCY: Fish and Wildlife Service, Department of the Interior.

ACTION: Notice of availability.

SUMMARY: The U.S. Fish and Wildlife Service (Service), on behalf of the Department of the Interior (DOI), as a natural resource trustee, announces the release for public review of the Draft Natural Resource Restoration Plan (NRRP) for the Saegertown Industrial Area National Priorities List Superfund Site (Saegertown Site). The Draft NRRP describes the DOI's proposal to restore natural resources injured as a result of chemical contamination at the Saegertown Site.

DATES: Written comments must be submitted on or before April 15, 2000.

ADDRESSES: Requests for copies of the Draft NRRP may be made to: Mark Roberts, U.S. Fish and Wildlife Service, Pennsylvania Field Office, 315 South Allen Street, Suite 322, State College, Pennsylvania 16801.

Written comments or materials regarding the Draft NRRP should be sent to the same address.

FOR FURTHER INFORMATION CONTACT: Mark Roberts, Environmental Contaminants Branch, U.S. Fish and Wildlife Service, Pennsylvania Field Office, 315 South Allen Street, Suite 322, State College, Pennsylvania 16801. Interested parties may also call (814) 234-4090 or send e-mail to mark_roberts@fws.gov for further information.

SUPPLEMENTARY INFORMATION: Under the authority of the Comprehensive Response, Compensation and Liability Act of 1980, as amended (CERCLA), “natural resource trustees may assess damages to natural resources resulting from a discharge of oil or a release of a hazardous substance * * * and may seek to recover those damages.” Natural resource damage assessments are separate from the cleanup actions undertaken at a hazardous waste site, and provide a process whereby the natural resource trustees can determine the proper compensation to the public for injury to natural resources. At the Saegertown Site in the Borough of Saegertown. Crawford County, Pennsylvania, DOI was the sole natural resource trustee involved in the federal government's settlement with the GATX Corporation (GATX). GATX owns a portion of the site. The U.S. Fish and Wildlife Service determined that contamination on the GATX portion of the site had degraded habitat and injured trust resources (migratory birds). The injuries resulted from the exposure of migratory birds (such as killdeers, red-winged blackbirds, mourning doves, and waterflow) to mercury, lead, and PCB contamination in a 2.3-acre pond/wetland complex on the site.

As part of a Consent Decree requiring remedial actions at the Saegertown site, DOI agreed to a monetary settlement with GATX for natural resource damages. The settlement of $94,510 was designated for restoration, replacement, or acquisition of the equivalent natural resource injured by the release of contaminants at the site, and included reimbursement for costs related to assessing the damages.

The Draft NRRP is being released in accordance with the Natural Resource Damage Assessment Regulations found at Title 43 of the Code of Federal Regulation Part II. The Draft NRRP describes several habitat restoration, acquisition, and protection alternatives identified by the DOI, and evaluates each of the possible alternatives based on all relevant considerations. The DOI's Preferred Alternative is to use the settlement funds to purchase and restore fish and wildlife habitat within the French Creek watershed, in cooperation with several identified partners. The Pennsylvania Game Commission will accept title of the property and manage it for the perpetual protection of fish and wildlife resources. Details regarding the proposed projects are contained in the Draft NRRP.

The Final Revised Procedures for the Service in implementing the National Environmental Policy Act were published in the Federal Register on January 16, 1997. That publication provides for a categorical exclusion for natural resource damage assessment restoration plans prepared under CERCLA when only minor or negligible change in the use of the affected areas is planned. The DOI has determined that the Preferred Alternative will result in only a minor change in the use of the affected area. Accordingly this Draft NRRP qualifies for a categorical exclusion under NEPA.

Interested members of the public are invited to review and comment on the Draft NRRP. Copies of the Draft NRRP are available from the U.S. Fish and Wildlife Service's Pennsylvania Field Office at 315 South Allen Street, Suite 322, State College, Pennsylvania 16801. Additionally the Draft NRRP is available for review at the Saegertown Area Library, 320 Broad Street, Saegertown, Pennsylvania 16433. All comments received on the Draft NRRP will be considered and a response provided either through revision of this Draft NRRP and incorporation into the Final Natural Resource Restoration Plan, or by letter to the commentor.

Author: The primary author of this notice is Mark Roberts, U.S. Fish and Wildlife Service, Pennsylvania Field Office, 315 South Allen Street, Suite 322, State College, Pennsylvania 16801.

Authority: The authority for this action is the Comprehensive Environmental Response, Compensation and Liability Act of 1980, as amended (“CERCLA”), 42 U.S.C.

Dated: March 10, 2000.
M.A. Parker,
Assistant, Regional Director, Region 5, U.S. Fish and Wildlife Service.

[FR Doc. 00-7286 Filed 3-23-00; 8:45 am]

BILLING CODE 4310-55-M